DEPARTMENT OF ENERGY

Federal Energy Regulatory Commission

[Project No. 2244—Washington]

Energy Northwest; Notice of Site Visit

July 13, 2004.

Energy Northwest, Licensee for the Packwood Lake Hydroelectric Project (FERC No. 2244), will be hosting a site visit for the project on August 27, 2004. The site visit is being conducted to provide all parties interested in the Project's relicensing an opportunity to view the project's facilities and surrounding area. Commission staff will be attending the site visit and providing an overview of the Commission's Integrated Licensing Process (ILP), the process Energy Northwest is currently pursuing for the licensing of the project.

Under the ILP, the Commission conducts its National Environmental Policy Act (NEPA) scoping meeting within 90 days of the filing of the Licensee's Notice of Intent. A site visit is typically held in conjunction with that scoping meeting. However, access to some project facilities may be limited by winter weather during the early part of the year when scoping for this project is currently planned, in 2005. For this reason, it is unlikely that the Commission will host its own site visit in conjunction with its NEPA scoping meeting. Subsequently, the Commission encourages all interested parties to participate in this site visit to ensure a productive scoping meeting early next year. Details of the site visit follow:

Date and Time: August 27, 2004 at 11 a.m. (PST).

Location: Packwood Lake Project's Powerhouse, 179 Powerhouse Road, Packwood, WA.

Transportation will be provided from the powerhouse to the reservoir. Due to the remote location of the reservoir, some hiking will be involved (approximately 2 miles). Please dress accordingly. Additionally, it is recommended that parties interested in attending bring a bag lunch.

If you are planning to attend the site visit or require further information or directions, please contact Ms. Laura Schinnell of Energy Northwest at: (509) 372-5123 or via e-mail at: lschinnell@energy-northwest.com.

Magalie R. Salas,
Secretary.

[FR Doc. E4-1618 Filed 7-20-04; 8:45 am]

BILLING CODE 6717-01-P